DEPARTMENT OF HOMELAND SECURITY

Coast Guard

33 CFR Part 117

[CGD01-06-100]

RIN 1625-AA09

Drawbridge Operation Regulations; Charles River, Boston, MA

AGENCY: Coast Guard, DHS.

ACTION: Temporary final rule.

SUMMARY: The Coast Guard is temporarily changing the drawbridge operation regulations that govern the Department of Conservation and Recreation (DCR), Craigie Bridge, formerly, the Metropolitan District Commission, Craigie Bridge, across the Charles River, mile 1.0, at Boston, Massachusetts. This temporary rule in effect from July 24, 2006 through September 30, 2006, requires the Craigie Bridge to open on signal on the half-hour only between 12 p.m. and 8 p.m. on Saturday and Sunday and it also extends the rush hour closed periods normally in effect Monday through Friday, by one-hour. This temporary final rule is necessary to enhance public safety by alleviating vehicular traffic delays caused by the Central Artery Connecter tunnel closure.

DATES: This rule is effective from July 24, 2006 through September 30, 2006.

ADDRESSES: Comments and material received from the public, as well as documents indicated in this preamble as being available in the docket, are part of docket (CGD01-06-100) and are available for inspection or copying at the First Coast Guard District, Bridge Branch Office, 408 Atlantic Avenue, Boston, Massachusetts 02110, between 7 a.m. and 3 p.m., Monday through Friday, except Federal holidays.

FOR FURTHER INFORMATION CONTACT: Mr. John McDonald, Project Officer, First Coast Guard District, (617) 223-8364.

SUPPLEMENTARY INFORMATION:

Regulatory Information

We did not publish a notice of proposed rulemaking (NPRM) for this regulation. Under 5 U.S.C. 553(b)(B), the Coast Guard finds that good cause exists for not publishing an NPRM. The closure of a major downtown Boston roadway, the Central Artery Connector, due to a structural failure, has resulted in land traffic being detoured over many local roadways resulting in significant vehicular traffic delays and traffic gridlock.

The resulting traffic congestion has created a public safety issue. Emergency land traffic, including ambulances, fire fighting equipment, and police vehicles, may be unable to safely, and in a timely manner, travel throughout the downtown Boston area.

Reducing the times at which the bridge is required to open on weekends and extending the commuter rush hour closures by one hour is expected to help alleviate the traffic delays and reduce gridlock in the vicinity of the bridge and downtown Boston.

Under 5 U.S.C. 553(d)(3), the Coast Guard also finds good cause exists for making this rule effective less than 30 days after publication in the Federal Register for the reasons outlined above.

Background and Purpose

The Department of Conservation and Recreation, Craigie Bridge, formerly the Metropolitan District Commission, Craigie Bridge, has a vertical clearance in the closed position of 12 feet at normal pool elevation.

The existing drawbridge operation regulations listed at 33 CFR § 117.591(e), require the bridge to open on signal; except that, from 6:15 a.m. to 9:10 a.m., and 3:15 p.m. to 6:30 p.m., Monday through Friday, except holidays, the draw need not open for the passage of vessels. The bridge shall open as soon as possible for public vessels of the United States, state or local vessels used for public safety, and vessels in distress.

Pursuant to 33 CFR 117.37, the bridge owner, the Department of Conservation and Recreation, and the Massachusetts State Police, requested a temporary change to the drawbridge operation regulations for the Craigie Bridge, in the interest of public safety. The closure of a major downtown roadway, the Central Artery Connecter, due to a structural failure, has resulted in vehicular traffic being re-routed over local roads resulting in significant traffic delays and gridlock in downtown Boston on weekdays during the commuter rush hours, 6 a.m. to 10 a.m. and 3 p.m. to 7 p.m., and on weekends after 12 p.m. Emergency vehicles and equipment could be delayed in responding to emergency situations in a safe and timely manner as a result of these traffic delays.

The Charles River is predominantly a recreational waterway. The Craigie Bridge normally opens between 25 and 30 times on Saturday and Sunday between 8 a.m. and 8 p.m. during the boating season. Reducing the number of bridge openings after 12 p.m. on weekends and extending the commuter rush hour closure periods by one hour on weekdays when vehicular traffic is increased should help alleviate the traffic delays and enhance public safety.

As a result of the above information, the Coast Guard is temporarily changing the drawbridge operation regulations that govern the operation of the Craigie Bridge.

Under this temporary final rule, the Department of Recreation and Conservation Craigie Bridge across the Charles River, mile 1.0, at Boston, shall open on signal; except that, on Saturday and Sunday, from 12 p.m. to 8 p.m., the draw shall open on signal, on the half-hour only, except for the passage of emergency vessels.

The morning and afternoon commuter rush hour bridge closure periods Monday through Friday will be extended. As a result, the bridge may remain closed from 6 a.m. to 10 a.m. and from 3 p.m. to 7 p.m., except for the passage of emergency vessels.

Discussion of Rule

The Coast Guard is temporarily changing the drawbridge operation regulations for the Department of Conservation and Recreation Craigie Bridge across the charles River, mile 1.0, at Boston, to operate as follows: the draw shall open on signal; except that, between 12 p.m. and 8 p.m. on Saturday and Sunday the draw shall open on signal, on the half-hour only, and from 6 a.m. to 10 a.m. and 3 p.m. to 7 p.m., Monday through Friday the draw need not open for the passage of vessel traffic, except as stated in paragraph (a)(1) of this section.

The Coast Guard believes that this temporary change will help reduce the vehicular traffic delays while continuing to meet the reasonable needs of navigation.

Regulatory Evaluation

This rule is not a “significant regulatory action” under section 3(f) of Executive Order 12866, Regulatory Planning and Review, and does not require an assessment of potential costs and benefits under section 6(a)(3), of that Order.

This conclusion is based on the fact that the bridge will continue to open for vessel traffic. The temporary limitation of the bridge opening only on the half-hour between 12 p.m. and 8 p.m. on Saturday and Sunday and the one-hour extension of the commuter rush hour closures Monday through Friday is necessary for public safety and should be sufficient for the present needs of navigation.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations less than 50,000.

The Coast Guard certifies under 5 U.S.C. 605(b), that this rule will not have a significant economic impact on a substantial number of small entities.

This rule will affect the following entities, some of which may be small entities: The Charles River is navigated predominantly by recreational vessels. We believe that the recreational vessels have the schedule flexibility to plan their bridge transits in accordance with the temporary bridge opening schedule and that they will not be adversely affected since the bridge will continue to open for all vessel traffic. The temporary limitation of the bridge opening only on the half-hour between 12 p.m. and 8 p.m. on Saturday and Sunday and the extension of the weekday commuter rush hour closures is necessary for public safety, and should be sufficient for the present needs of navigation.

Assistance for Small Entities

Under section 213(a) of the Small Business Regulatory Enforcement Fairness Act of 1996 (Public Law 104-121), we offered to assist small entities in understanding the rule so that they could better evaluate its effects on them and participate in the rulemaking process.

No small entities requested Coast Guard assistance and none was given.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation. Paragraph (32)(e) is applied to this rule because it relates to the promulgation of operating regulations or procedures for drawbridges. Under figure 2-1, paragraph (32)(e), of the instruction, an “Environmental Analysis Check List” and a “Categorical Exclusion Determination” are not required for this rule.

List of Subjects in 33 CFR Part 117

Bridges.

Regulations

For the reasons discussed in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1; 33 CFR 1.05-1(g); section 117.255 also issued under the authority of Pub. L. 102-587, 106 Stat. 5039.

2. From July 24, 2006 through September 30, 2006, § 117.591 is amended by suspending paragraph (e) and adding a temporary paragraph (g), to read as follows:

§ 117.591 Charles River.

* * * * *

(g) The draw of the Department of Conservation and Recreation, (Craigie Bridge), mile 1.0, at Boston, shall operate as follows:

(1) The draw shall open on signal; except that, from 12 p.m. to 8 p.m. on Saturday and Sunday, the draw shall open on signal on the half-hour only, except as stated in paragraph (a)(1) of this section.

(2) Monday through Friday from 6 a.m. to 10 a.m. and 3 p.m. to 7 p.m., the draw need not open for the passage of vessel traffic, except as stated in paragraph (a)(1) of this section.

Dated: July 24, 2006.
Timothy S. Sullivan,
Rear Admiral, U.S. Coast Guard,Commander, First Coast Guard District.

[FR Doc. E6-12401 Filed 8-1-06; 8:45 am]

BILLING CODE 4910-15-P